COMMITTEE FOR PURCHASE FROM PEOPLE WHO ARE BLIND OR SEVERELY DISABLED

Procurement List; Proposed Addition and Deletion

AGENCY: Committee for Purchase From People Who Are Blind or Severely Disabled.

ACTION: Proposed Addition to and Deletion from the Procurement List.

SUMMARY: The Committee is proposing to add a service to the Procurement List that will be provided by a nonprofit agency employing persons who are blind or have other severe disabilities, and deletes a product previously furnished by such agency.

Comments must be received on or before: 9/21/2015.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to provide the service listed below from the nonprofit agency employing persons who are blind or have other severe disabilities.

The following service is proposed for addition to the Procurement List for production by the nonprofit agency listed:

Service:

Service Type: Contractor Operated Parts Store Service

Service Mandatory For: US Marine Corps Garrison Mobile Equipment Branch, Marine Corps Logistics Base, Building 5400, Albany, GA.

Mandatory Source of Supply: Training, Rehabilitation, & Development Institute, Inc., San Antonio, TX.

Contracting Activity: Dept of the Navy, Commanding General, Camp Lejeune, NC.

Deletion:

The following product is proposed for deletion from the Procurement List:

Product:

NSN(s)—Product Name(s): 7520-01-439-3392—Desk Set, Liberty.

Mandatory Source of Supply: Industries for the Blind, Inc., West Allis, WI.

Contracting Activity: General Services Administration, New York, NY.

Barry S. Lineback,
Director, Business Operations.

[FR Doc. 2015-20731 Filed 8-20-15; 8:45 am]

BILLING CODE 6353-01-P